Proclamation 10560 of April 28, 2023

Jewish American Heritage Month, 2023

By the President of the United States of America

A Proclamation

This month, we celebrate the enduring heritage of Jewish Americans, whose values, culture, and contributions have shaped our character as a Nation. For generations, the story of the Jewish people—one of resilience, faith, and hope in the face of adversity, prejudice and persecution—has been woven into the fabric of our Nation's story. It has driven us forward in our ongoing march for justice, equality, and freedom as we recommit to upholding the principles of our Nation's founding and realizing the promise of America for all Americans.

For centuries, Jewish refugees fleeing oppression and discrimination abroad have sailed to our shores in search of sanctuary. Early on, they fought for religious freedom, helping define one of the bedrock principles upon which America was built. Union soldiers celebrated Passover in the midst of the Civil War. Jewish suffragists fought to expand freedom and justice. And Jewish faith leaders linked arms with giants of the Civil Rights Movement to demand equal rights for all.

Jewish Americans continue to enrich every part of American life as educators and entrepreneurs, athletes and artists, scientists and entertainers, public officials and activists, labor and community leaders, diplomats and military service members, public health heroes, and more. Last year, I was proud to host the White House's first-ever Jewish New Year reception. During our Hanukkah celebration, I was also proud to unveil the first-ever permanent menorah at the White House—reinforcing the permanency of Jewish culture in America. In my own life, the Jewish community has been a tremendous source of friendship, guidance, and strength through seasons of pain and seasons of joy.

But there is also a dark side to the celebrated history of the Jewish people—a history marked by genocide, pogrom, and persecution—with a through line that continues in the record rise of antisemitism today. We have witnessed violent attacks on synagogues, bricks thrown through windows of Jewish businesses, swastikas defacing cars and cemeteries, Jewish students harassed on college campuses, and Jews wearing religious attire beaten and shot on streets. Antisemitic conspiracy theories are rampant online, and celebrities are spouting antisemitic hate.

These acts are unconscionable and despicable. They carry with them terrifying echoes of the worst chapters in human history. Not only are they a strike against Jews, but they are also a threat to other minority communities and a stain on the soul of our Nation. I decided to run for President after I saw this hatred on display during the rally in Charlottesville, when neo-Nazis marched from the shadows spewing the same antisemitic bile that was heard in Germany in the 1930s. These incidents remind us that hate never truly goes away—it only hides until it is given just a little oxygen. It is our obligation to ensure that hate can have no safe harbor in America and to protect the sacred ideals enshrined in our Constitution: religious freedom, equality, dignity, and respect. That is the promise of America.

I have made clear that I will not remain silent in the face of this antisemitic venom, vitriol, and violence. During my first year in office, I signed the bipartisan COVID-19 Hate Crimes Act to help State and local law enforcement better identify and respond to hate crimes. I appointed Deborah Lipstadt, a historian of the Holocaust, as the first Ambassador-level Special Envoy to Monitor and Combat Antisemitism. And my Administration also secured the largest increase in funding ever for the physical security of nonprofits, including synagogues, Jewish Community Centers, and Jewish day schools.

At my direction, we are also developing the first national strategy to counter antisemitism that outlines comprehensive actions the Federal Government will undertake and that reflects input from over a thousand Jewish community stakeholders, faith and civil rights leaders, State and local officials, and more. This strategy will help combat antisemitism online and offline, including in schools and on campuses; improve security to prevent antisemitic incidents and attacks; and build cross-community solidarity against antisemitism and other forms of hate.

But governance alone cannot root out antisemitism and hate. All Americans—including business and community leaders, educators, students, athletes, entertainers, and influencers—must help confront bigotry in all its forms. We must each do our part to put an end to antisemitism and hatred and create a culture of respect in our workplaces, schools, and homes and across social media.

This Jewish American Heritage Month, let us join hands across faiths, races, and backgrounds to make clear that evil, hate, and antisemitism will not prevail. Let us honor the timeless values, contributions, and culture of Jewish Americans, who carry our Nation forward each and every day. And let us rededicate ourselves to the sacred work of creating a more inclusive tomorrow, protecting the diversity that defines who we are as a Nation, and preserving the dignity of every human being—here at home and around the world.

NOW, THEREFORE, I, JOSEPH R. BIDEN JR., President of the United States of America, by virtue of the authority vested in me by the Constitution and the laws of the United States, do hereby proclaim May 2023 as Jewish American Heritage Month. I call upon all Americans to learn more about the heritage and contributions of Jewish Americans and to observe this month with appropriate programs, activities, and ceremonies.

IN WITNESS WHEREOF, I have hereunto set my hand this twenty-eighth day of April, in the year two thousand twenty-three, and of the Independence of the United States of America the two hundred and forty-seventh.

[FR Doc. 2023-09523

Filed 5-2-23; 8:45 am]

Billing code 3395-F3-P